DEPARTMENT OF COMMERCE

National Oceanic and Atmospheric Administration

[I.D. 012103D]

Proposed Information Collection; Comment Request; Paperwork Submissions Under the Coastal Zone Management Act Federal Consistency Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to David Kaiser, 301-713-3098, ext. 144 or at David.Kaiser@noaa.gov.

SUPPLEMENTARY INFORMATION:

I. Abstract

A number of paperwork submissions are required by the Coastal Zone Management Act (CZMA), 16 U.S.C. 1456, and by NOAA to provide a reasonable, efficient and predictable means of complying with the CZMA requirements. The requirements are detailed in 15 CFR Part 930. The information will be used by coastal States with Federally-approved Coastal Zone Management Programs to determine if Federal agency activities, Federal license or permit activities, and Federal assistance activities that affect a State's coastal zone are consistent with the States' programs.

II. Method of Collection

Paper submissions are made following regulatory guidance. No forms are used.

III. Data

OMB Number: 0648-0411.

Form Number: None.

Type of Review: Regular submission.

Affected Public: State, Local, or Tribal Government; individuals or households; business or other for-profit organizations; and Federal government.

Estimated Number of Respondents: 4,111.

Estimated Time Per Response: 8 hours for a State objection or concurrence letter for a consistency certification or determination; 4 hours for a State request for review of unlisted activities; 1 hour for public notice requirements for a project; 4 hours for a request for remedial action of a supplemental review; 1 hour for coordination of a listing notice; 2 hours for a request for Secretarial mediation; and 200 hours for an appeal. These are average estimates and burden can significantly vary based on the individual situation.

Estimated Total Annual Burden Hours: 20,331.

Estimated Total Annual Cost to Public: $8,000,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 16, 2003.
Gwellnar Banks,
Management Analyst, Office of the Chief Information Officer.

[FR Doc. 03-1649 Filed 1-23-03; 8:45 am]

BILLING CODE 3510-08-S